FARM CREDIT ADMINISTRATION

Privacy Act of 1974; System of Records

AGENCY: Farm Credit Administration.

ACTION: Notice of a modified system of records.

SUMMARY: Pursuant to the provisions of the Privacy Act of 1974, notice is hereby given that the Farm Credit Administration (FCA or Agency) is amending an existing system of records, FCA-7—Inspector General Investigative Files—FCA.

DATES: You may send written comments on or before November 9, 2020. FCA filed an amended System Report with Congress and the Office of Management and Budget on July 20, 2020. This notice will become effective without further publication on November 18, 2020 unless modified by a subsequent notice to incorporate comments received from the public.

ADDRESSES: We offer a variety of methods for you to submit your comments. For accuracy and efficiency, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to . . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: The Inspector General Investigative Files—FCA system is used to document the conduct and outcome of investigations; to report results of investigations to other components of the FCA and other agencies and authorities for their use in evaluating programs and imposition of criminal, civil, or administrative sanctions; to report the results of investigations to other agencies or other regulatory bodies for an action deemed appropriate, and for retaining sufficient information to fulfill reporting requirements; and to maintain records related to the OIG's activities. The Agency is updating the notice to make administrative updates and non-substantive changes to conform to the SORN template requirements prescribed in the Office of Management and Budget (OMB) Circular No. A-108.

This publication satisfies the requirement of the Privacy Act of 1974 that agencies publish a system of records notice in the Federal Register when there is a revision, change, or addition to the system of records. The substantive changes and modifications to the currently published version of FCA-7—Inspector General Investigative Files—FCA include:

1. Identifying the records in the system as unclassified.

2. Revising the safeguards section to reflect updated cybersecurity guidance and practices.

3. Clarifying the system purpose, categories of records in the system, and categories of records sources.

4. Adding routine uses permitting the disclosure of records and information contained in the records system: (a) To facilitate qualitative assessment reviews of the OIG's investigative function by certain other federal agencies; (b) to facilitate the preparation of the annual report to the President by the Council of the Inspectors General on Integrity and Efficiency; (c) to respond to statutory reporting requirements; and (d) to the public and news media where there is a public interest and disclosure would not constitute and unwarranted invasion of personal privacy.

5. Removing a routine use for sharing information with independent auditors or other private firms responsible for carrying out work on behalf of OIG, as such sharing is otherwise covered by the Agency's General Statement of Routine Uses.

6. Revising the policies and procedures for retention and disposal of records to reflect an updated National Archives and Records Administration-approved records schedule.

Additionally, non-substantive changes have been made to the notice to align with the latest guidance from OMB.

The amended system of records is: FCA-7—Inspector General Investigative Files—FCA. As required by 5 U.S.C. 552a(r) of the Privacy Act, as amended, FCA sent notice of this modified system of records to the Office of Management and Budget, the Committee on Oversight and Reform of the House of Representatives, and the Committee on Homeland Security and Governmental Affairs of the Senate. The notice is published in its entirety below.

SYSTEM NAME AND NUMBER:

FCA-7—Inspector General Investigative Files—FCA.

SECURITY CLASSIFICATION:

Unclassified.

SYSTEM LOCATION:

Office of Inspector General (OIG), Farm Credit Administration, 1501 Farm Credit Drive, McLean, VA 22102-5090.

SYSTEM MANAGER:

Inspector General, Farm Credit Administration, 1501 Farm Credit Drive, McLean, VA 22102-5090.

AUTHORITY FOR MAINTENANCE OF THE SYSTEM:

The Inspector General Act of 1978, as amended, 5 U.S.C. app.

PURPOSES OF THE SYSTEM:

We use information in this system: to facilitate and document the conduct of investigative activities relating to programs and operations of the FCA; to report results of investigative activities to other components of the FCA and other agencies and authorities for appropriate action; and to fulfill reporting requirements.

CATEGORIES OF INDIVIDUALS COVERED BY THE SYSTEM:

Subjects of complaints and investigations relating to FCA's programs and operations. Subjects include, but are not limited to, current and former FCA employees; current and former agents or employees of contractors and subcontractors in their personal capacity, where applicable; and other persons whose actions affect or relate to the FCA, its programs or operations. Businesses, proprietorships, and corporations are not covered by this system.

CATEGORIES OF RECORDS IN THE SYSTEM:

This system contains correspondence relating to investigative activities; internal staff memoranda; copies of subpoenas issued, affidavits, witnesses' statements, transcripts and recordings of testimony taken, and accompanying exhibits; documents and records obtained from governmental or non-governmental sources, or copies thereof; interview notes, investigative notes, staff working papers, draft materials, and other investigative documents or records; investigative plans, progress reports, and closing reports; and other documents and information relating to the investigation of alleged or suspected criminal, civil, or administrative violations or similar wrongdoing relating to FCA programs and operations.

RECORD SOURCE CATEGORIES:

Records of the FCA and other federal, state, and local agencies; current and former employees of the FCA and other federal, state, and local agencies; private individuals and entities; contractors, subcontractors, FCA-regulated institutions, and other entities having some relationship with FCA or the FCA OIG.

ROUTINE USES OF RECORDS MAINTAINED IN THE SYSTEM, INCLUDING CATEGORIES OF USERS AND PURPOSES OF SUCH USES:

See the “General Statement of Routine Uses.” The information collected in the system will be used in a manner that is compatible with the purposes for which the information has been collected and, in addition to the general routine uses, may be disclosed for the following purposes:

(1) We may disclose information in this system of records to any source when the FCA OIG is conducting an investigation, audit, inspection, or evaluation, but only to the extent necessary to get information from that source relevant to and sought in furtherance of the investigation, audit, inspection, or evaluation.

(2) We may disclose the record or information in the record system to agencies, offices, or establishments of the executive, legislative, or judicial branch of the Federal or State governments when we have a request and where the records or information is relevant and necessary to a decision on an employee's discipline or other administrative action (excluding a decision on hiring). We will take reasonable steps to ensure that the records are timely, relevant, accurate, and complete enough to assure fairness to the employee affected by the disciplinary or administrative action.

(3) We may disclose the record or information in the record system to an FCA contractor when a contractor-operated program has been subject to OIG investigation that has uncovered personnel problems so that the contractor can correct those problems.

(4) We may disclose the record or information in the record system to debt collection contractors to collect debts owed to the Government, as authorized under the Debt Collection Act of 1982, 31 U.S.C. 3718, and subject to applicable Privacy Act safeguards.

(5) We may disclose the record or information in the record system to any official charged with the responsibility to conduct qualitative assessment reviews of internal safeguards and management procedures employed in investigative operations. This disclosure category includes members of the Council of the Inspectors General on Integrity and Efficiency and officials and administrative staff within their investigative chain of command, as well as authorized officials of the Department of Justice.

(6) We may disclose the record or information in the record system to members of the Council of the Inspectors General on Integrity and Efficiency for the preparation of reports to the President and Congress on the activities of the Inspectors General.

(7) We may disclose the record or information in the record system to federal, state, or local agencies or to the public as required to meet statutory reporting obligations.

(8) We may disclose the record or information in the record system to the news media and the public, where there exists a legitimate public interest and disclosure would not constitute an unwarranted invasion of personal privacy.

Disclosure to consumer reporting agencies:

(1) We may disclose information from this system, pursuant to 5 U.S.C. 552a(b)(12), to consumer reporting agencies as defined in the Fair Credit Reporting Act, 15 U.S.C. 1681a(f) or the Federal Claims Collection Act of 1966, as amended, 31 U.S.C. 3701(a)(3), in accordance with section 3711(e) of title 31.

POLICIES AND PRACTICES FOR STORAGE OF RECORDS:

The OIG Investigative Files consist of digital records stored in network file folders, as well as paper records and data maintained on removable media, which are stored in file cabinets in OIG office space.

POLICIES AND PRACTICES FOR RETRIEVAL OF RECORDS:

Records are retrieved by the name of the subject of the investigation or complaint, a description of the subject matter of the investigation or complaint, or by a unique control number.

POLICIES AND PROCEDURES FOR RETENTION AND DISPOSAL OF RECORDS:

Records of investigations and complaints are destroyed 10 years after the end of the fiscal year in which the relevant investigation was closed or complaint resolved. Investigative files determined by the Inspector General to have historical significance are transferred to the National Archives for permanent retention.

ADMINISTRATIVE, TECHNICAL, AND PHYSICAL SAFEGUARDS:

FCA implements multiple layers of security to ensure access to records is limited to FCA OIG personnel who need to know the information to perform their official duties. Physical records are stored in a secured environment using locked file rooms, file cabinets, or locked offices and other physical safeguards. Computer and network records are safeguarded through use of user roles, passwords, firewalls, encryption, and other information technology security measures.

RECORD ACCESS PROCEDURES:

To obtain a record, contact: Privacy Act Officer, Farm Credit Administration, 1501 Farm Credit Drive, McLean, VA 22102-5090, as provided in 12 CFR part 603.

CONTESTING RECORD PROCEDURES:

Direct requests for amendments to a record to: Privacy Act Officer, Farm Credit Administration, 1501 Farm Credit Drive, McLean, VA 22102-5090, as provided in 12 CFR part 603.

NOTIFICATION PROCEDURE:

Address inquiries about this system of records to: Privacy Act Officer, Farm Credit Administration, McLean, VA 22102-5090.

EXEMPTIONS PROMULGATED FOR THE SYSTEM:

Pursuant to 5 U.S.C. 552a(j)(2), records in this system are exempt from the provisions of 5 U.S.C. 552a, except subsections (b), (c)(1) and (2), (e)(4)(A) through (F), (e)(6), (7), (9), (10), and (11), and (i), and corresponding sections of 12 CFR 603.355, to the extent a record in the system of records was compiled for criminal law enforcement purposes.

Pursuant to 5 U.S.C. 552a(k)(2), the system is exempt from 5 U.S.C. 552a(c)(3), (d), (e)(1), (e)(4)(G), (H), and (I), and (f), and the corresponding provisions of 12 CFR 603.355, to the extent the system of records consists of investigatory material compiled for law enforcement purposes. Material within the scope of the exemption at 5 U.S.C. 552a(j)(2) is also exempt. See 12 CFR 603.355.

HISTORY:

Federal Register Vol. 64, No. 100/Tuesday, May 25, 1999, page 21875

Federal Register Vol. 69, No. 37/Wednesday, February 25, 2004, page 8657

Dated: October 5, 2020.
Dale Aultman,
Secretary, Farm Credit Administration Board.

[FR Doc. 2020-22351 Filed 10-7-20; 8:45 am]

BILLING CODE 6705-01-P